DEPARTMENT OF ENERGY

Federal Energy Regulatory Commission

[Docket No. CP07-449-000]

Southern Natural Gas Company; Notice of Request Under Blanket Authorization

September 26, 2007.

Take notice that on September 19, 2007, Southern Natural Gas Company (Southern), Colonial Brookwood Center, 569 Brookwood Village, Birmingham, Alabama 35209, filed in Docket No. CP07-449-000, a prior notice request pursuant to sections 157.205 and 157.208 of the Federal Energy Regulatory Commission's regulations under the Natural Gas Act for authorization to continue the use of a skid mounted compressor unit, located in Screven County, Georgia, that was installed in 2006 as emergency compression, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Southern proposes to continue the use of the Woodcliff Compressor Unit, rated at 5,278 horsepower, that was installed as an emergency facility in order to restore the availability of Southern's gulf coast infrastructure caused in August and September 2005 by Hurricanes Katrina and Rita. Southern states that the total cost for refurbishing and installation was $2,177,371. Southern asserts that it would be more economical to continue the use of the unit at its refurbished state rather than place it back in storage and the unit continues to be a worthwhile asset to support incremental gas supplies on the system. Southern states that the unit will not be utilized to serve additional firm requirements.

Any questions regarding the application should be directed to Patricia S. Francis, Senior Counsel, Southern Natural Gas Company, Post Office Box 2563, Birmingham, Alabama 35202-2563, or call at (205) 325-7696.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E7-19781 Filed 10-5-07; 8:45 am]

BILLING CODE 6717-01-P